DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Watch Duty-Exemption and 7113 Jewelry Duty-Refund Program Forms.

Agency Form Number: ITA-340P, 360P, 361P.

OMB Number: 0625-0134.

Type of Request: Revision-Regular Submission.

Burden: 64 hours 16 min.

Number of Respondents: 4 (Form ITA-340P) and 8 (Forms ITA-360P & 361P).

Avg. Hours Per Response: 6 minutes (Forms ITA-340 & 361P) and 0 minutes (Form ITA-360P).

Needs and Uses: Public Law 97-446, as amended by Public Law 103-465, Public Law 106-36 and Public Law 108-429 requires the Department of Commerce and the Interior to administer the distribution of watch duty exemptions and watch and jewelry duty refunds to program producers in the U.S. insular possessions and the Northern Mariana Islands. The primary consideration in collecting information is the enforcement of the law and the information gathered is limited to that necessary to prevent abuse of the program and to permit a fair and equitable distribution of its benefits. Form ITA-340P provides the data to assist in the verification of duty-free shipments and make certain the allocations are not exceeded. Form ITA-360P and ITA-361P are necessary to implement the duty refund program.

Affected Public: Businesses or other for-profit.

Frequency: On Occasion.

Respondent's Obligation: Required to obtain or retain a benefit, voluntary.

OMB Desk Officer: David Rostker, (202) 395-3897.

Copies of the above information collection proposal can be obtained by calling or writing Diana Hynek, Departmental Paperwork Clearance Officer, (202) 482-0266, Department of Commerce, Room 6625, 14th and Constitution Ave., NW., Washington, DC 20230; or via the Internet at dHynek@doc.gov.

Written comments and recommendations for the proposed information collection should be sent to David Rostker, OMB Desk Officer, at David_Rostker@omb.eop.gov or faxed to (202) 395-7285 within 30 days of publication of the Federal Register notice.

Dated: December 22, 2005.
Madeleine Clayton,
Management Analyst, Office of Chief Information Officer.

[FR Doc. E5-7973 Filed 12-27-05; 8:45 am]

BILLING CODE 3510-DS-P